DEPARTMENT OF TRANSPORTATION

Office of the Secretary

[Docket No. DOT-OST-2022-0054]

Solicitation of Nominations for Membership to the Advisory Committee on Transportation Equity

AGENCY: Office of the Secretary (OST), Department of Transportation (DOT).

ACTION: Solicitation of nominations for membership to the Advisory Committee on Transportation Equity.

SUMMARY: The Office of the Secretary of Transportation (OST) calls for applications to the Advisory Committee on Transportation Equity.

DATES: Applications for the Advisory Committee on Transportation Equity are due June 15, 2022.

FOR FURTHER INFORMATION CONTACT: Advisory Committee on Transportation Equity Designated Federal Officer, Portia Allen-Kyle, Senior Advisor, Departmental Office of Civil Rights, Office of the Secretary, portia.allenkyle@dot.gov.

SUPPLEMENTARY INFORMATION: This notice calls for applications from the public for membership to the Advisory Committee on Transportation Equity, established as a Federal Advisory Committee in accordance with the Federal Advisory Committee Act (Pub. L. 92-463, 5 U.S.C. app. 2) to provide information, advice, and recommendations to the Secretary on comprehensive, interdisciplinary issues related to civil rights and transportation equity in the planning, design, research, policy, and advocacy contexts. The Committee is tasked with providing advice and recommendations to the Secretary about approaches to achieving the Department's equity goals. The Committee will only undertake tasks assigned to it by the Secretary. Members of The Committee may be selected to serve either as representatives of an organization or as members appointed solely for their expertise. Interested persons should submit a letter of interest and a statement of qualifications, such as a resume to both portia.allenkyle@dot.gov and equity@dot.gov.

Please see the Advisory Committee on Transportation Equity website at https://www.transportation.gov/civil-rights/acte.

Issued in Washington, DC, on May 11, 2022.
Irene B. Marion,
Director, Departmental Office of Civil Rights, U.S. Department of Transportation.

[FR Doc. 2022-10488 Filed 5-13-22; 8:45 am]

BILLING CODE 4910-9X-P